DEPARTMENT OF DEFENSE

Office of the Secretary

[Docket ID: DoD-2009-OS-0011]

Proposed Collection; Comment Request

AGENCY: Office of the Assistant Secretary of Defense (Networks and Information Integration)/DoD Chief Information Officer. DoD.

ACTION: Notice.

In compliance with Section 3506(c)(2)(A) of the Paperwork Reduction Act of 1995, the Office of the Assistant Secretary of Defense (Networks and Information Integration)/DoD Chief Information Officer announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 30, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received, without change, and including any personal identifiers or contact information.

FOR FURTHER INFORMATION CONTACT: To request more information on this proposed information collection or to obtain a copy of the proposal and associated collection instruments, please write to Office of DoD Chief Information Officer, ATTN: Ms. Sandra Smith, 1225 South Clark St., Suite 910, Arlington, VA, 22202.

Title; Associated Form; and OMB Number: Information Assurance Scholarship Program (IASP); OMB Control Number 0704-TBD.

Needs and Uses: The National Security Agency (NSA) is the Executive Administrator of the Information Assurance Scholarship Program (IASP), serving on behalf of the Office of the Assistant Secretary of Defense (Networks and Information Integration)/DoD Chief Information Officer. Those who wish to participate in the IASP Recruitment program must complete and submit an application package through their college or university to NSA. Centers of Academic Excellence in Information Assurance Education (CAE/IAEs) interested in applying for capacity-building grants must complete and submit a written proposal, and all colleges and universities subsequently receiving grants must provide documentation on how the grant funding was utilized. In addition, IASP participants and their faculty advisors (Principal Investigators) are required to complete annual program assessment documents. Without this written documentation, the DoD has no means of judging the quality of applicants to the program or collecting information regarding program performance.

Affected Public: “Individuals or households,” specifically college students at institutions designated as CAE/IAEs who are interested in, and qualified to, apply for a scholarship; “Not-for-profit institutions,” specifically CAE/IAEs interested in submitting proposals for capacity-building grants, and faculty advisors (Principal Investigators).

Annual Burden Hours: 1,755.

Number of Respondents: 422.

Responses per Respondent: 1.

Average Burden per Response: 4.16 hours.

Frequency: Annually.

SUPPLEMENTARY INFORMATION:

Summary of Information Collection

The IASP, authorized by Section 2200 of title 10 of the United States Code, is designed to: increase the number of new entrants to DoD who possess key Information Assurance (IA) and IT skill sets, and serve as a tool to develop and retain well-educated military and civilian personnel who support the Department's critical IT management and infrastructure protection functions. The IASP recruitment track is for college students who, on completion of the program, come to work for the DoD. The retention track is for current DoD employees who are excused from duty to attend college courses through the IASP. Pending availability of funds, the IASP may also award capacity-building grants to colleges and universities designated as CAE/IAEs for such purposes as developing IA curricula and faculty, and building IA laboratories. The recruitment, retention and grant programs all require a competitive application process. Additionally, there is an assessment process which examines how grant funds were spent, as well as an assessment process requiring status reports from students in the program, and university faculty representatives (Principal Investigators) for the purpose of program evaluation.

In order to apply for any aspect of the program, paperwork is required so that the DoD may judge the merits of a given application and determine how best to allocate IASP funds.

The Recruitment, Capacity-Building, and Assessment aspects of the IASP apply to non-DoD employee members of the general public who choose to become involved in the program and thus become subject to information collection requirements. The Retention aspect of the IASP applies only to current DoD personnel, and thus its information collection requirements are not addressed in this request.

Dated: January 22, 2008.
Patricia L. Toppings,
OSD Federal Register Liaison Officer, Department of Defense.

[FR Doc. E9-1906 Filed 1-28-09; 8:45 am]

BILLING CODE 5001-06-P